DEPARTMENT OF HEALTH AND HUMAN SERVICES

Office of the National Coordinator for Health Information Technology; American Health Information Community Consumer Empowerment Workgroup Meeting

ACTION: Announcement of meeting.

SUMMARY: This notice announces the ninth meeting of the American Health Information Community (“Community”) Consumer Empowerment Workgroup in accordance with the Federal Advisory Committee Act (Pub. L. No. 92-463, 5 U.S.C., App.)

DATES: September 18, 2006 from 10:30 a.m. to 5:30 p.m.

Place: Hubert H. Humphrey Building (200 Independence Avenue, SW., Washington, DC 20201), Conference Room 800 (Please bring your photo identification to enter a Federal building.)

Status: Open.

Purpose: At this meeting, the Community Consumer Empowerment Workgroup will discuss recently received information about personal health records, discuss the Workgroup's plan of work for the coming year, and receive information on personal health records (PHRs) and related matters.

Part of the meeting will be conducted in hearing format, in which the Workgroup will gather information about how to engage consumer interest in PHRs, health literacy, clinician and consumer incentives for using PHRs, and government policies related to PHRs. The Workgroup will invite representatives who can provide information about these matters. The format for the meeting will include two invited panels and time for questions and discussion. The meeting will include a time period during which members of the public may deliver brief (3 minutes or less) oral public comment. To be included on the public comment portion of the agenda, please contact Vernette Roberts via e-mail at vernette.roberts@hhs.gov.

SUPPLEMENTARY INFORMATION:

Public input, in the form of written testimony, is sought on the following issues:

1. Are there social marketing techniques or methodologies that can be applied to encourage the widespread use of personal health records?

2. Should a consumer outreach and education program be a coordinated public-private initiative and, if so, what are the logical steps to consider in the planning and implementation? Should there be an incremental approach to consumer education and outreach given the state of the marketplace and the current level of public awareness? What would be an appropriate role for the public sector?

3. Are there lessons learned from nationwide efforts (e.g. anti-smoking) or statewide efforts (e.g. car seat belt usage) to influence consumer behavior that are applicable to consumer education of PHRs?

4. How can health literacy be advanced through adoption and use of PHRs?

5. What incentives have been successfully to influence consumer adoption of PHRs? Are these one-time rewards, or is there a need to repeat these awards or to offer different incentives to encourage consumers to actively use their PHRs over time?

6. What incentives have been used successfully to influence clinician adoption of PHRs?

7. What consumer needs are not likely to be filled by market-driven solutions alone and should be addressed by public policy and public-private collaborations?

8. What public policy options for encouraging adoption of personal health records by consumers and for enabling interoperable data exchange are available and feasible to implement in the short-term and over the long-term?

Persons wishing to submit written testimony only (which should not exceed five double-spaced typewritten pages) should endeavor to submit it by September 18, 2006. Unfilled slots for oral testimony will be filled on the day of the meeting as time permits. Please consult Ms. Roberts for further information about these arrangements.

Further information about the Community's Consumer Empowerment Workgroup may be found at: http://www.hhs.gov/healthit/ahic/ce_main.html. The meeting will be available via Web cast at www.eventcenterlive.com/cfmx/ec/login/login1.cfm?BID=67.

If you have special needs for the meeting, please contact (202) 690-7151.

Dated: September 1, 2006.
Judith Sparrow,
Director, American Health Information Community, Office of Programs and Coordination, Office of the National Coordinator for Health Information Technology.

[FR Doc. 06-7537 Filed 9-8-06; 8:45 am]

BILLING CODE 4150-24-M